DEPARTMENT OF EDUCATION

Office of Postsecondary Education (OPE) Agenda Project

AGENCY: Department of Education.

ACTION: Notice of regional meetings and request for written submissions to obtain advice and comments from the public for use in developing a national postsecondary education agenda for the U.S. Department of Education.

SUMMARY: The Assistant Secretary for Postsecondary Education will conduct four regional meetings in Boston, Atlanta, Dallas and San Francisco to solicit advice for use in setting priorities and refining the U.S. Department of Education role in postsecondary education.

FOR FURTHER INFORMATION CONTACT: Terri Douglas, U.S. Department of Education, 1990 K Street, NW, Room 7134, Washington, DC 20006. Telephone: (202) 502-7750. E-mail: OPE_Agenda@ed.gov. Information about the project also is available at the Department of Education Web site at www.ed.gov/OPEAgenda. If you use a telecommunications device for the deaf (TDD) you may call the Federal Information Relay Service (FIRS) at 1-800-877-8339.

Individuals with disabilities may obtain this document in an alternative format (e.g. Braille, large print, audiotape, or computer diskette) on request to the contact person listed in the preceding paragraph.

SUPPLEMENTARY INFORMATION:

Background

The U.S. Department of Education's Office of Postsecondary Education has long served postsecondary students and institutions through a wide range of programs aimed at promoting access to, and quality in, postsecondary education and at strengthening international education. More recently, we have taken on new challenges in promoting distance education, improving teacher education, and further expanding opportunity by better preparing K-12 students for postsecondary education opportunities at an earlier age and by promoting access to graduate education.

Today, America's postsecondary institutions must prepare students for success in a changing world. OPE's mission—“to mobilize national resources to promote opportunity and success for all Americans, in a global environment, through quality postsecondary education”—is even more important in this context. The Assistant Secretary for Postsecondary Education created the Agenda Project to solicit advice from all those who have a stake in postsecondary education. As part of this project, the Assistant Secretary is conducting regional meetings and soliciting written advice from the public. This advice will be used to develop a national postsecondary education agenda—one that will enable our country to meet the needs of students, institutions, the business community and the entire nation in this changing environment.

For more information about the Agenda Project, please visit our Web site at www.ed.gov/OPEAgenda or contact Ms. Terri Douglas at 202-502-7654.

Regional Meetings

Interested parties are invited to attend four regional meetings in order to contribute ideas and advice on OPE's agenda. The regional meetings will begin with a brief description of OPE and the Assistant Secretary's Agenda Project. Participants then will have an opportunity to contribute their ideas and advice, framed around the following three questions:

1. What are the most significant opportunities and challenges facing American postsecondary education in the next five years?

2. What are the appropriate roles for the U.S. Department of Education in postsecondary education?

3. How can the U.S. Department of Education best maintain a continuing dialogue with all those who have a stake in postsecondary education?

The Department of Education has reserved a limited number of hotel rooms at each of the following hotels at a special government per diem room rate. To reserve these rates, be sure to inform the hotel that you are attending the regional meetings with the Department of Education.

Dates, Times and Locations of Regional Meetings

1. Boston: April 5, 2000, 10 a.m. to 12 p.m. and 1 p.m. to 3 p.m., The Colonnade Boston, 120 Huntington Avenue, Boston, MA 02116. Call 617-424-7000 or fax 617-424-1717 for hotel reservations. Sleeping room rate: $192 plus taxes. Last day to reserve at the federal rate: March 12

2. Dallas: April 26, 2000, 10 a.m. to 12 p.m. and 1 p.m. to 3 p.m, Wyndham Dallas Market Center, 2015 Market Center Blvd., Dallas, TX 75207. Call 214-741-7481 or fax 214-747-6191 for hotel reservations. Sleeping room rate: $89. Last day to reserve at the federal rate: March 27

3. San Francisco: May 2, 2000, 10 a.m. to 12 p.m. and 1 p.m. to 3 p.m., Hyatt Fisherman's Wharf, 555 North Point Street, San Francisco, CA 94133. Call 415-563-1234 or fax 415-563-2218 for hotel reservations. Sleeping room rate: $175. Last day to reserve at the federal rate: April 11

4. Atlanta: May 10, 2000, 10 a.m. to 12 p.m. and 1 p.m. to 3 p.m., Wyndham Atlanta Hotel, 160 Spring Street, Atlanta, GA 30303. Call 404-688-8600 or fax 404-524-5543 for room reservations. Sleeping room rate: $93. Last day to reserve at the federal rate: April 9

The hearing sites are accessible to individuals with disabilities.

Assistance to Individuals With Disabilities at the Regional Meetings

The Department will provide a sign language interpreter at each of the scheduled hearings. An individual with a disability who will need an auxiliary aid or service other than an interpreter to participate in the meeting (for example, assistive listening device or materials in an alternative format) should notify the contact person listed in this notice at least two weeks before the scheduled meeting date. Although the Department will attempt to meet a request received after that date, the requested auxiliary aid or service may not be available because of insufficient time to arrange it.

Invitation To Comment

We invite you to submit written comments and suggestions addressing the questions outlined in the Regional Meetings section. Comments should be addressed to Dr. A. Lee Fritschler, Assistant Secretary for Postsecondary Education, and mailed or e-mailed to the address given in the FOR FURTHER INFORMATION CONTACT section.

Comments will be available for public inspection, during and after the comment period, in room 7122, 1990 K Street, NW, Washington, DC, between the hours of 8:30 a.m. and 4:00 p.m., Eastern time, Monday through Friday of each week except Federal Holidays.

Electronic Access to This Document

You may view this document, as well as all other Department of Education documents published in the Federal Register, in text or Adobe Portable Document Format (PDF) on the Internet at either of the following sites:

http://ocfo.ed.gov/fedreg.htm

http://www.ed.gov/news.html

To use the PDF, you must have the Adobe Acrobat Reader Program with Search, which is available free at either of the previous sites. If you have questions about using the PDF, call the U.S. Government Printing Office (GPO) toll free at 1-888-293-6498 or in the Washington, DC, area, at (202) 572-1530.

Note: The official version of this document is the document published in the Federal Register. Free Internet access to the official edition of the Federal Register and the Code of Federal Regulations is available on GPO Access at:

http://www.access.gpo.gov/nara/index.html.

Dated: March 2, 2000.
A. Lee Fritschler,
Assistant Secretary, Office of Postsecondary Education.

[FR Doc. 00-5495 Filed 3-6-00; 8:45 am]

BILLING CODE 4000-01-U